DEPARTMENT OF TRANSPORTATION

Federal Railroad Administration

[Docket Number FRA-1999-6253]

Petition for Extension of Waiver of Compliance

Under part 211 of title 49 Code of Federal Regulations (CFR), this document provides the public notice that on October 15, 2021, the Utah Transit Authority (UTA) petitioned the Federal Railroad Administration (FRA) for a modification and an extension of a waiver of compliance from certain provisions of the Federal railroad safety regulations contained at 49 CFR parts 210, 217, 218, 219, 220, 221, 222, 223, 225, 228, 229, 231, 234, 238, 239, 240, 242, and 243. The relevant FRA Docket Number is FRA-1999-6253.

UTA, operator of the rail fixed guideway public transit system TRAX in Salt Lake City, Utah, seeks to extend and expand the terms and conditions of its current shared use waiver of compliance. TRAX is operated with temporal separation on track owned by UTA and shared partially with Utah Railway Company and Savage Bingham & Garfield Railroad Company freight trains dispatched by UTA.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by December 13, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2021-23520 Filed 10-28-21; 8:45 am]

BILLING CODE 4910-06-P